DEPARTMENT OF THE INTERIOR

Bureau of Reclamation

Notice of Availability of the Injury Assessment Plan for the Upper Columbia River Site, Washington

AGENCY: Bureau of Reclamation, Interior.

ACTION: Notice and request for comments.

SUMMARY: The Bureau of Reclamation, on behalf of the Department of the Interior, as a natural resource trustee, announces the release of the Injury Assessment Plan for the Upper Columbia River Site. The Injury Assessment Plan describes the activities that constitute the natural resource trustees' (Department of the Interior, State of Washington, Confederated Tribes of the Colville Reservation, and the Spokane Tribe of Indians) currently proposed approach to conducting the assessment of natural resources exposed to hazardous substances, including heavy metals, dioxins, and polychlorinated biphenyls.

DATES: Submit written comments on the Injury Assessment Plan on or before September 20, 2012.

ADDRESSES: Send written comments or requests for copies of the Injury Assessment Plan to Deidre Emerson, Upper Columbia River/Lake Roosevelt, c/o Bureau of Land Management, 1103 N. Fancher Road, Spokane Valley, WA 99212; via email to demerson@blm.gov; or via the Web: http://parkplanning.nps.gov/documentsOpenForReview.cfm?parkID=318&projectID=42954. You may download the Injury Assessment Plan at http://parkplanning.nps.gov/documentsList.cfm?projectID=42954. See the SUPPLEMENTARY INFORMATION section for locations where copies of the Injury Assessment Plan are available for public review.

FOR FURTHER INFORMATION CONTACT: Deidre Emerson at 509-536-1222.

SUPPLEMENTARY INFORMATION: The Upper Columbia River Site has been determined to have been contaminated with hazardous substances, including heavy metals, dioxins, and polychlorinated biphenyls along a stretch of the Columbia River from the Canadian/United States border downstream to Grand Coulee Dam in Washington State.

The Injury Assessment Plan (Plan) is being released in accordance with the Natural Resource Damage Assessment Regulations found at Title 43 of the Code of Federal Regulations part 11. The Plan is the second step in the damage assessment, the goal of which is to restore natural resources injured by the release of hazardous substances. The first step, a pre-assessment screen of various sources of contamination, was completed in 2009.

The Plan has been developed within the authority provided by the Comprehensive Environmental Response, Compensation and Liability Act of 1980, as amended, 42 U.S.C.

Copies of the Plan are available for public review at the following locations:

• Bureau of Land Management, 1103 N. Fancher Road, Spokane Valley, WA 99212

• National Park Service, Kettle Falls Visitor Center, 425 West 3rd St., Kettle Falls, WA 99141

• National Park Service, 1008 Crest Drive, Coulee Dam, WA 99116

• Confederated Tribes of the Colville Reservation, Office of Environmental Trust, Building #2, 12 Belvedere Street, Nespelem, WA 99138

• Spokane Tribal Department of Natural Resources Office, 6290-D Ford-Wellpinit Road, Wellpinit, WA 99040

• Washington Department of Ecology, 4601 North Monroe, Spokane, WA 99205

Public Disclosure

Before including your address, phone number, email address, or other personal identifying information in your comment, you should be aware that your entire comment—including your personal identifying information—may be made publicly available at any time. While you can ask us in your comment to withhold your personal identifying information from public review, we cannot guarantee that we will be able to do so.

Dated: July 30, 2012.
Lorri J. Lee,
Regional Director, Pacific Northwest Region.

[FR Doc. 2012-19112 Filed 8-3-12; 8:45 am]

BILLING CODE 4310-MN-P